DEPARTMENT OF COMMERCE

National Oceanic and Atmospheric Administration

Agency Information Collection Activities; Submission to the Office of Management and Budget (OMB) for Review and Approval; Comment Request; Pacific Islands Region Seabird-Fisheries Interaction Recovery Reporting

The Department of Commerce will submit the following information collection request to the Office of Management and Budget (OMB) for review and clearance in accordance with the Paperwork Reduction Act of 1995, on or after the date of publication of this notice. We invite the general public and other Federal agencies to comment on proposed, and continuing information collections which helps us assess the impact of our information collection requirements and minimize the public's reporting burden. Public comments were previously requested via the Federal Register on April 21, 2021 (86 FR 20663) during a 60-day comment period. This notice allows for an additional 30 days for public comments.

Agency: NOAA National Marine Fisheries Service (NMFS), Commerce.

Title: Pacific Islands Short-tailed Albatross-Fisheries Interaction Recovery Reporting.

OMB Control Number: 0648-0456.

Form Number(s): None.

Type of Request: Regular submission, revision and extension of a current information collection.

Number of Respondents: 1.

Average Hours per Response: 1.25.

Total Annual Burden Hours: 1.25.

Needs and Uses: Federal regulations at 50 CFR 665.815(b) require Hawaii-based longline fishermen to safely handle and release short-tailed albatrosses (Phoebastria albatrus) (STAL) caught incidentally during fishing operations. The vessel operator must: (a) Contact NMFS, the U.S. Coast Guard (USCG), or the U.S. Fish and Wildlife Service immediately; (b) complete and submit a Short-tailed Albatross Recovery Data Form; and (c) attach identical information tags to the carcass and specimen bag if the STAL is dead and turn over the carcass to USFWS within 72 hours after returning to port. When a STAL is brought on board a vessel, the vessel operator must record the incident's date, time, location, any tag data, and injury and health descriptions on the Short-tailed Albatross Recovery Data Form.

Two minor revisions were made to the Recovery Data Form based on comments for the U.S. Fish & Wildlife Service: On page 1 of the form, the statement “If a photo is taken, attach to form when submitted.” was added to the Photograph field; on the bottom of page 2 instruction was added to submit the form and photo (if taken) to U.S. Fish & Wildlife by email.

Affected Public: Individuals or households; Business or other for-profit organizations.

Frequency: As needed.

Respondent's Obligation: Mandatory.

Legal Authority: 50 CFR 665.815(b).

This information collection request may be viewed at www.reginfo.gov. Follow the instructions to view the Department of Commerce collections currently under review by OMB.

Written comments and recommendations for the proposed information collection should be submitted within 30 days of the publication of this notice on the following website https://www.reginfo.gov/public/do/PRAMain. Find this particular information collection by selecting “Currently under 30-day Review—Open for Public Comments” or by using the search function and entering either the title of the collection or the OMB Control Number 0648-0456.

Sheleen Dumas,
Department PRA Clearance Officer, Office of the Chief Information Officer, Commerce Department.

[FR Doc. 2021-15781 Filed 7-23-21; 8:45 am]

BILLING CODE 3510-22-P